DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act. To request a copy of these documents, call or email the SAMHSA Reports Clearance Officer on (240) 276-0361 or carlos.graham@samhsa.hhs.gov.

Project: Projects for Assistance in Transition from Homelessness (PATH) Program Annual Report (OMB No. 0930-0205)—Revision

The Center for Mental Health Services awards grants each fiscal year to each of the states, the District of Columbia, the Commonwealth of Puerto Rico, the Virgin Islands, Guam, American Samoa, and the Commonwealth of the Northern Mariana Islands from allotments authorized under the PATH program established by Public Law 101-645, 42 U.S.C. 290cc-21 et seq., the Stewart B. McKinney Homeless Assistance Amendments Act of 1990 (section 521 et seq. of the Public Health Service (PHS) Act) and the 21st Century Cures Act (114-255 Pub. L). Section 522 of the PHS Act and the 21st Century Cures Act requires that the grantee states and territories must expend their payments under the Act solely for making grants to political subdivisions of the state, and to nonprofit private entities (including community-based veterans' organizations and other community organizations) for the purpose of providing services specified in the Act. Available funding is allotted in accordance with the formula provision of section 524 of the PHS Act.

This submission is for a revision of the current approval of the annual grantee reporting requirements. Section 528 of the PHS Act and the 21st Century Cures Act specify that not later than January 31 of each fiscal year, a funded entity will prepare and submit a report in such form and containing such information as is determined necessary for securing a record and description of the purposes for which amounts received under section 521 were expended during the preceding fiscal year and of the recipients of such amounts and determining whether such amounts were expended in accordance with statutory provisions.

The proposed changes to the PATH 2020 Annual Report are as follows:

1. HMIS Data Standards updates

When needed, field response options and questions have been updated to align with the most recent version of the HMIS Data Standards.

Effective October 1, 2019, the HMIS Data Standards have been further updated. The changes in the HMIS Data Standards are reflected in this version of the PATH Annual Report Manual, and include:

—Updates to response categories for Living Situation

—Addition of an “Unable to Locate Client” response option to PATH Status

—Addition of a demographic question on history with domestic violence

The estimated annual burden for these reporting requirements is summarized in the table below.

Respondents | Number of respondents | Responses per respondent | Burden per response (hrs.) | Total burden
States | 56 | 1 | 15 | 840
Local provider agencies | 476 | 1 | 15 | 7,140
Total | 532 |  |  | 7,980

Written comments and recommendations for the proposed information collection should be sent within 30 days of publication of this notice to www.reginfo.gov/public/do/PRAMain. Find this particular information collection by selecting “Currently under 30-day Review—Open for Public Comments” or by using the search function.

Carlos Graham,
Social Science Analyst.

[FR Doc. 2020-10308 Filed 5-13-20; 8:45 am]

BILLING CODE 4162-20-P